DEPARTMENT OF EDUCATION

[Docket No.: ED-2023-SCC-0185]

Agency Information Collection Activities; Comment Request; Regional Educational Laboratory (REL) Southwest Write To Succeed Evaluation

AGENCY: Institute of Education Sciences (IES), Department of Education (ED).

ACTION: Notice.

SUMMARY: In accordance with the Paperwork Reduction Act (PRA) of 1995, the Department is proposing a new information collection request (ICR).

DATES: Interested persons are invited to submit comments on or before December 26, 2023.

ADDRESSES: To access and review all the documents related to the information collection listed in this notice, please use https://www.regulations.gov by searching the Docket ID number ED-2023-SCC-0185. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Christopher Boccanfuso, 202-453-7383.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Regional Educational Laboratory (REL) Southwest Write to Succeed Evaluation.

OMB Control Number: 1850-NEW.

Type of Review: A new ICR.

Respondents/Affected Public: State, Local, and Tribal Governments.

Total Estimated Number of Annual Responses: 2,453.

Total Estimated Number of Annual Burden Hours: 366.

Abstract: The current authorization for the Regional Educational Laboratories (REL) program is under the Education Sciences Reform Act of 2002, part D, section 174, (20 U.S.C. 9564), administered by the Department of Education, Institute of Education Sciences (IES), National Center for Education Evaluation and Regional Assistance (NCEE). The central mission and primary function of the RELs is to support applied research and provide technical assistance to state and local education agencies within their region (ESRA, part D, section 174[f]). The REL program's goal is to partner with educators and policymakers to conduct work that is change-oriented and supports meaningful local, regional, or state decisions about education policies, programs, and practices to improve outcomes for students.

Supporting equitable educational opportunities and achievement for English learner students in New Mexico is a high priority for the New Mexico Public Education Department (NMPED, n.d., 2021). In light of analysis showing English learner students in the state have lower rates of English language arts (ELA) proficiency (Arellano et al., 2018), plus legal rulings in the state that English learner students' rights to a sufficient public education have been violated (NMPED, 2022a), NMPED created a strategic plan that includes supporting the whole child through literacy instruction that is culturally and linguistically responsive (NMPED, 2022b). Improving English learner students' English proficiency and the literacy skills of all students is a top priority of NMPED and the district and regional partners of REL Southwest. To address this problem, REL Southwest is implementing, refining, and building evidence for the Write to Succeed professional learning program. The core focus of the Write to Succeed program is scaffolded writing instruction that can support all students but with embedded opportunities to meet the language needs to English learner students. Prior to this study, the program will be further enhanced with supports for teacher collaboration and culturally and linguistically relevant instructional routines, as prior work with New Mexico partners has indicated these are two elements in need of further support.

This study is designed to measure the efficacy and implementation of the Write to Succeed. The evaluation team plans to conduct an independent evaluation using a school-level, cluster randomized control trial design to assess the program's impact on teachers' practices and beliefs and students' language and literacy outcomes. The evaluation will also assess the implementation of the program and how it may be effectively scaled. The evaluation will take place in 40 schools across an estimated 10 districts in New Mexico and will focus on teachers and students in grades 4-8. The evaluation will produce a report and presentations to study participants, practitioners, policymakers, and researchers, and infographics and blog posts for a wider audience of educators and policymakers. These will be designed to inform district and school leaders and teachers about scaffolded writing practices that could be beneficial for English learner students and all students.

Dated: October 23, 2023.
Juliana Pearson,
PRA Coordinator, Strategic Collections and Clearance Governance and Strategy Division, Office of Chief Data Officer, Office of Planning, Evaluation and Policy Development.

[FR Doc. 2023-23692 Filed 10-26-23; 8:45 am]

BILLING CODE 4000-01-P